DEPARTMENT OF LABOR

Employment and Training Administration

[TA-W-70,232; TA-W-70,232A]

Halliburton Company, Duncan Mfg., Including On-Site Leased Workers from Express Personnel, Clayton Personnel Service, and Manpower Planning, Duncan, OK; Halliburton Company, Technology and Engineering Division, Finance and Administration Division, Duncan, OK; Amended Certification Regarding Eligibility To Apply for Worker Adjustment Assistance

In accordance with Section 223 of the Trade Act of 1974, as amended (“Act”), 19 U.S.C. 2273, the Department of Labor issued a Certification of Eligibility to Apply for Worker Adjustment Assistance on August 21, 2009, applicable to workers of Halliburton Company, Duncan Mfg., including on-site leased workers from Express Personnel, Clayton Personnel Service and Manpower Planning, Duncan, Oklahoma. The notice was published in the Federal Register on September 22, 2009 (74 FR 48300).

At the request of the State Agency, the Department reviewed the certification for workers of the Technology and Engineering Division, and Finance and Administration Division.

Additional information revealed that workers of the Technology and Engineering Division, and Finance and Administration Division were adversely affected by the firm's shift in production of oil field service equipment from the Duncan, Oklahoma facility to India, China, Malaysia and Mexico, which was the basis for certification of TA-W-70,232. In addition, a significant number or proportion of workers of the Technology and Engineering Division and Finance and Administration Division were separated during the relevant period.

Workers of Halliburton Company, Technology and Engineering Division, and Finance and Administration Division, Duncan, Oklahoma, were certified eligible for trade adjustment assistance in a subsequent investigation, TA-W-73,525 and TA-W-73,525A, respectively. The impact date for both certifications is February 17, 2009. Halliburton Company also employs a separate group of workers in the Duncan Field Camp Division, who did not support the production of oil field service equipment. Workers of Duncan Field Camp Division were denied eligibility for trade adjustment assistance per TA-W-73,525B and are not subject to this amendment.

The intent of the Department's amended certification is to cover workers in the Technology and Engineering Division and Finance and Administration Division who were separated on or after the impact date of TA-W-70,232 on May 19, 2008 through the impact date of TA-W-73,525 and TA-W-73,525A on February 17, 2009.

The amended notice applicable to TA-W-70,232 is hereby issued as follows:

All workers Halliburton Company, Duncan Mfg., including on-site leased workers from Express Personnel, Clayton Personnel Service and Manpower Planning, Duncan, Oklahoma (TA-W-70,232) who became totally or partially separated from employment on or after May 19, 2008, through August 21, 2011, and all workers in the group threatened with total or partial separation from employment on the date of certification through two years from the date of certification, are eligible to apply for adjustment assistance under Chapter 2 of Title II of the Trade Act of 1974, as amended, and all workers Halliburton Company, Technology and Engineering Division, and Finance and Administration Division, Duncan, Oklahoma (TA-W-70,232A) who became totally or partially separated from employment on or after May 19, 2008 through February 16, 2009 are eligible to apply for adjustment assistance under Chapter 2 of Title II of the Trade Act of 1974, as amended.

Signed in Washington, DC, this 2nd day of August, 2010.
Michael W. Jaffe,
Certifying Officer, Office of Trade Adjustment Assistance.

[FR Doc. 2010-20041 Filed 8-12-10; 8:45 am]

BILLING CODE 4510-FN-P